FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th and Constitution Avenue NW, Washington DC 20551-0001, not later than April 14, 2020.

A. Federal Reserve Bank of Atlanta (Kathryn Haney, Assistant Vice President) 1000 Peachtree Street NE, Atlanta, Georgia 30309. Comments can also be sent electronically to Applications.Comments@atl.frb.org:

1. Anchor Bankshares, Inc., Palm Beach Gardens, Florida; to become a bank holding company by acquiring Anchor Bank, Juno Beach, Florida.

2. South State Corporation, Columbia, South Carolina; to merge with CenterState Bank Corporation, and thereby indirectly acquire CenterState Bank, N.A., both of Winter Haven, Florida.

B. Federal Reserve Bank of Kansas City (Dennis Denney, Assistant Vice President) 1 Memorial Drive, Kansas City, Missouri 64198-0001:

1. PBT Bancshares, Inc., McPherson, Kansas; to acquire Community Bank of the Midwest, Great Bend, Kansas.

C. Federal Reserve Bank of San Francisco (Sebastian Astrada, Director, Applications) 101 Market Street, San Francisco, California 94105-1579:

1. Golden Valley Bancshares, Inc., Chico, California; to become a bank holding company by acquiring Golden Valley Bank, Chico, California.

Board of Governors of the Federal Reserve System, March 10, 2020.
Yao-Chin Chao,
Assistant Secretary of the Board.

[FR Doc. 2020-05173 Filed 3-12-20; 8:45 am]

BILLING CODE 6210-01-P